DEPARTMENT OF HEALTH AND HUMAN SERVICES

Centers for Disease Control and Prevention

[Program Announcement AA083]

Enhancement of Palliative Care Tuberculosis (TB)/Human Immunodeficiency Virus (HIV) Collaboration in the United Republic of Tanzania Under the President's Emergency Plan for AIDS Relief; Notice of Intent To Fund Single Eligibility Award

A. Purpose

The Centers for Disease Control and Prevention (CDC) announces the intent to fund fiscal year (FY) 2005 funds for a cooperative agreement program to increase and build the capacity of health care workers in Tanzania that are in the early diagnosis and treatment stage of TB and/or HIV in co-infected patients.

The purpose of the announcement is to support the efforts to increase and build the capacity of health care workers in Tanzania and Zanzibar in the early diagnosis and treatment of TB and/or HIV in co-infected patients by building upon the existing framework of health policy and programming the NTLP has itself initiated. The Government of the United Republic of Tanzania has mandated the NTLP to coordinate and implement activities necessary for the control of TB and leprosy, including HIV/AIDS among TB patients. The NTLP also has the technical ability to oversee the project, by ensuring the activities implemented are integrated into the national strategy for TB and leprosy in Tanzania.

The Catalog of Federal Domestic Assistance number for this program is 93.067.

B. Eligible Applicant

Assistance will only be provided to the National Tuberculosis and Leprosy Program (NTLP) for this project.

The NTLP is currently the only appropriate and qualified organization in Tanzania to conduct a specific set of activities to enhance palliative care TB/HIV collaboration in the United Republic of Tanzania. The NTLP has implemented the DOTS strategy since the early 1980's. The DOTS program currently provides national coverage and is a well functioning TB control program with high government and international commitment to TB control in the country, which allows the NTLP to immediately become engaged in the activities listed in this announcement.

The NTLP is uniquely positioned, in terms of legal authority and support from the Government of the Republic of Tanzania, and has the ability and credibility among Tanzanian citizens to coordinate the implementation of initiatives for TB, HIV/AIDS prevention, care and treatment services in Tanzania.

C. Funding

Approximately $1.2 million is available in FY 2005 to fund this award on September 15, 2005, and will be made for a 12-month budget period within a project period of up to five years. Funding estimates may change.

D. Where To Obtain Additional Information

For general comments or questions about this announcement, contact: Technical Information Management, CDC Procurement and Grants Office, 2920 Brandywine Road, Atlanta, GA 30341-4146, Telephone: 770-488-2700.

For technical questions about this program, contact: Cecil Threat, Project Officer, Global AIDS Program, c/o American Embassy, 2140 Dar es Salaam Place, Washington, DC 20521-2140, Telephone: 255 22 212 1407, Cell: 255 744 222986, Fax: 255 22 212 1462, E-mail: Cthreat@cdc.gov.

Dated: August 12, 2005.
William P. Nichols,
Director, Procurement and Grants Office, Centers for Disease Control and Prevention.

[FR Doc. 05-16431 Filed 8-18-05; 8:45 am]

BILLING CODE 4163-18-P